DEPARTMENT OF ENERGY

Environmental Management Site-Specific Advisory Board, Paducah

AGENCY: Department of Energy (DOE).

ACTION: Notice of open meeting.

SUMMARY: This notice announces a meeting of the Environmental Management Site-Specific Advisory Board (EM SSAB), Paducah. The Federal Advisory Committee Act (Pub. L. 92-463, 86 Stat. 770) requires that public notice of these meetings be announced in the Federal Register.

DATES: Thursday, March 18, 2004, 5:30 p.m.-9:30 p.m.

ADDRESSES: 111 Memorial Drive,Barkley Centre,Paducah, Kentucky.

FOR FURTHER INFORMATION CONTACT: William E. Murphie, Deputy Designated Federal Officer, Department of Energy Portsmouth/Paducah Project Office, 1017 Majestic Drive, Suite 200, Lexington, Kentucky 40513, (859) 219-4001.

SUPPLEMENTARY INFORMATION: Purpose of the Board: The purpose of the Board is to make recommendations to DOE and its regulators in the areas of environmental restoration and waste management activities.

Tentative Agenda

5:30 p.m.—Informal Discussion

6 p.m.—Call to Order; Introductions; Approve February Minutes; Review Agenda

6:05 p.m.—DDFO's Comments

6:25 p.m.—Ex-officio Comments

6:35 p.m.—Federal Coordinator Comments

6:45 p.m.—Public Comments and Questions

6:55 p.m.—Break

7:05 p.m.—Task Forces/Presentations

• Conflict of Interest

• Waste Operations Task Force

• Water Task Force

• Long Range Strategy/Stewardship

8:05 p.m.—Public Comments and Questions

8:15 p.m.—Administrative Issues

• Review of Workplan

• Review of Next Agenda

• Annual Planning Retreat

8:35 p.m.—Review of Action Items

8:50 p.m.—Subcommittee Reports

• Community Concerns

• Public Involvement/Membership

9:15 p.m.—Final Comments

9:30 p.m.—Adjourn

Copies of the final agenda will be available at the meeting.

Public Participation: The meeting is open to the public. Written statements may be filed with the Committee either before or after the meeting. Individuals who wish to make oral statements pertaining to agenda items should contact David Dollins at the address listed below or by telephone at (270) 441-6819. Requests must be received five days prior to the meeting and reasonable provision will be made to include the presentation in the agenda. The Deputy Designated Federal Officer is empowered to conduct the meeting in a fashion that will facilitate the orderly conduct of business. Each individual wishing to make public comments will be provided a maximum of five minutes to present their comments as the first item of the meeting agenda.

Minutes: The minutes of this meeting will be available for public review and copying at the Freedom of Information Public Reading Room, 1E-190, Forrestal Building, 1000 Independence Avenue, SW., Washington, DC 20585 between 9 a.m. and 4 p.m., Monday-Friday, except Federal holidays. Minutes will also be available at the Department of Energy's Environmental Information Center and Reading Room at 115 Memorial Drive, Barkley Centre, Paducah, Kentucky between 8 a.m. and 5 p.m. on Monday through Friday or by writing to David Dollins, Department of Energy Paducah Site Office, Post Office Box 1410, MS-103, Paducah, Kentucky 42001 or by calling (270) 441-6819.

Issued at Washington, DC on February 26, 2004.
Rachel M. Samuel,
Deputy Advisory Committee Management Officer.

[FR Doc. 04-4585 Filed 3-1-04; 8:45 am]

BILLING CODE 6450-01-P